SECURITIES AND EXCHANGE COMMISSION

[Release No. 34-88842; File No. 265-30]

Fixed Income Market Structure Advisory Committee

AGENCY: Securities and Exchange Commission.

ACTION: Notice of meeting.

SUMMARY: Notice is being provided that the Securities and Exchange Commission Fixed Income Market Structure Advisory Committee will hold a public meeting on Monday, June 1, 2020, by remote means. The meeting will begin at 9:30 a.m. (ET) and will be open to the public via webcast on the Commission's website at www.sec.gov. Persons needing special accommodations to take part because of a disability should notify the contact person listed below. The public is invited to submit written statements to the Committee. The meeting will include panel discussions and potential recommendations from the subcommittees, including potential recommendations concerning internal fund crosses and credit ratings, as well as a panel discussing the role of bond pricing services.

DATES: The public meeting will be held on June 1, 2020. Written statements should be received on or before May 26, 2020.

PLACES: The meeting will be held by remote means and webcast on www.sec.gov. Written statements may be submitted by any of the following methods. To help us process and review your statement more efficiently, please use only one method. At this time, electronic statements are preferred.

Electronic Statements

• Use the Commission's internet submission form (http://www.sec.gov/rules/other.shtml); or

• Send an email message to rule-comments@sec.gov. Please include File Number 265-30 on the subject line; or

Paper Statements

• Send paper statements in triplicate to Vanessa A. Countryman, Federal Advisory Committee Management Officer, Securities and Exchange Commission, 100 F Street NE, Washington, DC 20549-1090.

All submissions should refer to File No. 265-30. This file number should be included on the subject line if email is used. The Commission will post all statements on the Commission's internet website at http://www.sec.gov/comments/265-30/265-30.shtml.

Statements also will be available for website viewing and printing in the Commission's Public Reference Room, 100 F Street NE, Room 1580, Washington, DC 20549, on official business days between the hours of 10:00 a.m. and 3:00 p.m. For up-to-date information on the availability of the Public Reference Room, please refer to https://www.sec.gov/fast-answers/answerspublicdocshtm.html or call (202) 551-5450.

All statements received will be posted without change. Persons submitting comments are cautioned that we do not redact or edit personal identifying information from submissions. You should submit only information that you wish to make available publicly.

FOR FURTHER INFORMATION CONTACT: David Dimitrious, Senior Special Counsel, at (202) 551-5131, or Arisa Kettig, Special Counsel, at (202) 551-5676, Division of Trading and Markets, Securities and Exchange Commission, 100 F Street NE, Washington, DC 20549-7010.

SUPPLEMENTARY INFORMATION: In accordance with Section 10(a) of the Federal Advisory Committee Act, 5 U.S.C.-App. 1, and the regulations thereunder, Brett Redfearn, Designated Federal Officer of the Committee, has ordered publication of this notice.

Dated: May 8, 2020.
Vanessa A. Countryman,
Committee Management Officer.

[FR Doc. 2020-10262 Filed 5-12-20; 8:45 am]

BILLING CODE 8011-01-P